DEPARTMENT OF THE INTERIOR

National Park Service

[N6749; NPS-WASO-NAGPRA-NPS0041744; PPWOCRADN0-PCU00RP14.R50000]

Notice of Intended Repatriation: San Francisco State University, San Francisco, CA

AGENCY: National Park Service, Interior.

ACTION: Notice.

SUMMARY: In accordance with the Native American Graves Protection and Repatriation Act (NAGPRA), the San Francisco State University (SF State) NAGPRA Program intends to repatriate certain cultural items that meet the definition of objects of cultural patrimony and that have a cultural affiliation with the Indian Tribes or Native Hawaiian organizations in this notice.

DATES: Repatriation of the cultural items in this notice may occur on or after February 12, 2026.

ADDRESSES: Send additional, written requests for repatriation of the cultural items in this notice to Alexander Dursin, San Francisco State University, 1600 Holloway Avenue, San Francisco, CA 94132, email alexanderdursin@sfsu.edu.

SUPPLEMENTARY INFORMATION: This notice is published as part of the National Park Service's administrative responsibilities under NAGPRA. The determinations in this notice are the sole responsibility of the SF State NAGPRA Program, and additional information on the determinations in this notice, including the results of consultation, can be found in the summary or related records. The National Park Service is not responsible for the determinations in this notice.

Abstract of Information Available

A total of seven objects of cultural patrimony (five objects and two lots) have been requested for repatriation from Sonoma County and Marin County by Federated Indians of Graton Rancheria (FIGR).

A total of one item from CA-MRN-UNK (Dillon Beach) has been requested for repatriation. Records indicate the item to be a core or drill material, and consultation with Federated Indians of Graton Rancheria indicates the item is culturally affiliated with them.

A total of two lots of items from CA-SON-Annadel Mt. have been requested for repatriation. Records indicate the items are worked obsidian pieces, and consultation with Federated Indians of Graton Rancheria indicates the item is culturally affiliated with them.

A total of one item from CA-SON-Cloverleaf Ranch has been requested for repatriation. Cloverleaf Ranch is located two miles north of Santa Rosa, California. Records indicate the item to be a perforated phallic charm stone. The records further indicate that consultation from 2012 show that the item is culturally affiliated with Federated Indians of Graton Rancheria.

A total of two items from CA-SON-Sonoma Mission have been requested for repatriation. Records indicate the items are two roof tiles, and consultation with Federated Indians of Graton Rancheria indicates the item is culturally affiliated with them.

A total of one item from CA-SON-Petaluma Adobe has been requested for repatriation. The item is believed to have been disturbed from the region of Petaluma, California. The lot contains one hopper basket mortar. Consultation with Federated Indians of Graton Rancheria in 2012 indicates this item to be culturally affiliated with them.

Determinations

The SF State NAGPRA Program has determined that:

• The seven objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Federated Indians of Graton Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 12, 2026. If competing requests for repatriation are received, the SF State NAGPRA Program must determine the most appropriate requestor prior to repatriation. Requests for joint repatriation of the cultural items are considered a single request and not competing requests. The SF State NAGPRA Program is responsible for sending a copy of this notice to the Indian Tribes and Native Hawaiian organizations identified in this notice and to any other consulting parties.

Authority: Native American Graves Protection and Repatriation Act, 25 U.S.C. 3004 and the implementing regulations, 43 CFR 10.9.

Dated: January 5, 2026.
Melanie O'Brien,
Manager, National NAGPRA Program.

[FR Doc. 2026-00458 Filed 1-12-26; 8:45 am]

BILLING CODE 4312-52-P